ENVIRONMENTAL PROTECTION AGENCY

[EPA-HQ-OAR-2010-0885: FRL-9964-91-OAR]

Agency Information Collection Activities; Proposed Collection; Comment Request; Implementation of the 2008 Ozone National Ambient Air Quality Standards for Ozone; State Implementation Plan Requirements, EPA ICR No. 2347.03, OMB Control No. 2060-0695

AGENCY: Environmental Protection Agency (EPA).

ACTION: Notice.

SUMMARY: In compliance with the Paperwork Reduction Act (PRA), this document announces that the Environmental Protection Agency (EPA) is planning to submit a request to renew an existing approved Information Collection Request (ICR) 2347.02, “Implementation of the 2008 National Ambient Air Quality Standards for Ozone,” to the Office of Management and Budget (OMB). This existing ICR is scheduled to expire on January 31, 2018. Before submitting the ICR renewal request to OMB for review and approval, the EPA is soliciting comments on specific aspects of the proposed information collection as described below.

DATES: Comments must be submitted on or before November 1, 2017.

ADDRESSES: Submit your comments, identified by Docket ID No. EPA-HQ-OAR-2010-0885, at https://www.regulations.gov. Follow the online instructions for submitting comments. Once submitted, comments cannot be edited or removed from http://www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The web, cloud, or other file sharing system). For additional submission methods, the full EPA public comment policy, information about CBI or multimedia submissions, and general guidance on making effective comments, please visit https://www2.epa.gov/dockets/commenting-epa-dockets.

FOR FURTHER INFORMATION CONTACT: Mr. H. Lynn Dail, Air Quality Policy Division, Office of Air Quality Planning and Standards, Mail Code C539-01, Environmental Protection Agency, T.W. Alexander Drive, Research Triangle Park, NC 27711; telephone number: (919) 541-2363; fax number: (919) 541-0824; email address: dail.lynn@epa.gov.

SUPPLEMENTARY INFORMATION:

How can I access the Docket and/or submit comments?

The EPA has established a public docket for this ICR under Docket ID No. EPA-HQ-OAR-2010-0885, which is available for online viewing at https://www.regulations.gov, or for in person viewing at the Air Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Air Docket is (202) 566-1742.

Use https://www.regulations.gov to obtain a copy of the draft collection of information, submit or view public comments, access the index listing of the contents of the docket, and to access those documents in the public docket that are available electronically. Once in the system, select “search,” then key in the docket ID number identified in this document.

What information is the EPA particularly interested in?

Pursuant to section 3506(c)(2)(A) of the PRA, the EPA specifically solicits comments and information to enable it to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and,

(iv) minimize the burden of the collection of information on those who are to respond, including through the use of appropriate automated electronic, mechanical, or other technological collection techniques or other forms of information technology, e.g., allowing for electronic submission of responses (in this case, revisions to State Implementation Plans (SIPs) to meet planning requirements for nonattainment areas for the 2008 ozone NAAQS).

What should I consider when I prepare my comments for the EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by the EPA, be sure to identify the docket ID number assigned to this action in the subject line on the first page of your response. You may also provide the name, date, and Federal Register citation.

What information collection activity or ICR does this apply to?

Affected entities: Entities affected by this action are state and local air agencies subject to attainment planning requirements for areas designated nonattainment for the 2008 ozone NAAQS. Such planning requirements may include attainment demonstrations, Reasonable Further Progress (RFP) plans, and Reasonably Available Control Technology (RACT) and Reasonably Available Control Measure (RACM) SIP submissions. Local, state, and federal agencies are part of the North American Industrial Classification System Code number 924110. There are other entities that may be indirectly affected, due to the fact that they may comment on the draft submissions before air agencies submit them to EPA. These include potentially regulated entities, representatives of stakeholder groups, and members of the general public.

Title: Implementation of the 2008 National Ambient Air Quality Standards for Ozone: State Implementation Plan Requirements; Information Collection Request Renewal

ICR numbers: EPA ICR No. 2347.03, OMB Control No. 2060-0695.

ICR status: This ICR is currently scheduled to expire on January 31, 2018. An agency may not conduct or sponsor, and a person is not required to respond to, a collection of information, unless it displays a currently valid OMB control number. The OMB control numbers for the EPA's regulations in title 40 of the Code of Federal Regulations (CFR), after appearing in the Federal Register when approved, are listed in 40 CFR part 9. They are displayed either by publication in the Federal Register or by other appropriate means, such as on the related collection instrument or form, if applicable. The display of OMB control numbers in certain EPA regulations is consolidated in 40 CFR part 9.

Abstract: The PRA requires the information found in this ICR (No. 2347.03) to assess the burden (in hours and dollars) of meeting the requirements of the Implementation of the 2008 National Ambient Air Quality Standards (NAAQS) for Ozone: State Implementation Plan Requirements; Final Rule. The rule was proposed on June 6, 2013 (78 FR 34178), and promulgated on March 15, 2015 (80 FR 12264). The rule includes requirements that involve collecting information from states with areas designated nonattainment for the 2008 8-hour ozone NAAQS. These information collection milestones include but are not limited to state submissions of attainment demonstrations, RFP plans, and RACT determinations. The burden estimate in the original ICR assumed 26 state air agency respondents (state and local air agencies), including the District of Columbia, responsible for meeting attainment planning obligations for 46 designated nonattainment areas for the 2008 ozone NAAQS. The revised burden estimate in this proposed ICR renewal incorporates changes to the original estimate that affect 17 respondents with jurisdiction over 30 nonattainment areas that are in various stages of planning for attainment or maintenance of the 2008 ozone NAAQS. The time period covered by this ICR is February 1, 2018, through January 31, 2021.

Burden Statement: The estimated public reporting and recordkeeping burden for the original ICR was 120,000 labor hours for the 3-year period, for an estimated average burden of 4,615 hours per respondent (the number of respondents was assumed to be 26). The incremental public reporting and recordkeeping burden for this proposed collection of information is estimated to total 62,000 hours, for an average of 3,647 hours per affected respondent (the number of respondents is assumed to be 17) over the 3-year period covered by this ICR renewal. Burden means the total time, effort, or financial resources expended by persons to generate, maintain, retain, or disclose or provide information to or for a federal agency. This includes the time needed to review instructions; to develop, acquire, install, and utilize technology and systems for the purposes of collecting, validating, and verifying information, processing and maintaining information, and disclosing and providing information; to adjust the existing ways to comply with any previously applicable instructions and requirements which have subsequently changed; to train personnel to be able to respond to a collection of information; to search data sources; to complete and review the collection of information; and, to transmit or otherwise disclose the information.

The ICR provides a detailed explanation of the agency's estimate, which is only briefly summarized here:

Respondents/affected entities: State and local governments.

Estimated total number of affected respondents: 17.

Frequency of response: Annual.

Estimated total additional annual burden hours: 20,667 hours.

Estimated total additional annual cost: $1,404,757. This includes an estimated burden cost of $0 for capital investment or maintenance and operational costs.

Are there changes in the estimates from the last approval?

The total estimated respondent burden during the 3-year period of this ICR renewal is 62,000 hours, compared with a total estimated respondent burden of 120,000 hours identified for the 3-year period covered by the original ICR approved by OMB.

What is the next step in the process for this ICR?

The EPA will consider the comments received on this proposal and will amend the ICR as appropriate. The final ICR package will then be submitted to OMB for review and approval pursuant to 5 CFR 1320.12. At that time, the EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: July 10, 2017.
Anna Marie Wood,
Director, Air Quality Policy Division.

[FR Doc. 2017-21117 Filed 9-29-17; 8:45 am]

BILLING CODE 6560-50-P